FEDERAL COMMUNICATIONS COMMISSION

FCC Renews and Amends Charter of Network Reliability and Interoperability Council

AGENCY: Federal Communications Commission.

ACTION: Notice of renewal and amendment of charter.

SUMMARY: The Federal Communications Commission has renewed and amended the charter of its advisory committee, the “Network Reliability and Interoperability Council” (the “Committee”). Under the amended charter, the objectives of the Committee are as follows.

The Committee will continue its work relating to the year 2000 date rollover (Y2K) on telecommunications networks, including a review of the effectiveness of the work done prior to the date change as well as an analysis of the impact of the date change on those networks. The Committee will make recommendations on any future actions that should be taken. The Committee will evaluate, and report on, the reliability of public telecommunications network services in the United States, including the reliability of packet switched networks.

During the charter of the previous Committee, interested participants developed guidelines that were intended to improve the quality of outage reporting for those carriers currently required to report outages. The Committee will evaluate those guidelines and data provided in accordance with those guidelines and, if appropriate, recommend further refinements to those guidelines.

During the charter of the previous Committee, interested participants recommended that the FCC adopt a voluntary reporting program, administered by the National Communications System, to gather outage data for those telecommunications and information service providers not currently required to report outages. The Committee will monitor this process, analyze the data obtained from the voluntary trial and report on the efficacy of that process, as well as the on-going reliability of such services.

The Committee will evaluate existing network outage reporting requirements and make recommendations for improving, or where appropriate initiating, reporting requirements for: (i) Telecommunications carriers currently required to report outages; and (ii) telecommunications carriers not presently required to report service outages.

Building on the work of the previous Committee, as appropriate, the Committee will continue to develop best practices recommendations and refine or modify, as appropriate, best practices recommendations developed by previous Committees.

The Committee will continue to evaluate and report on the extent to which telecommunications common carriers are using best practices recommendations and applicable American National Standards Institute Committee T-1 standards, and identify ways to increase the use of best practices and relevant Committee T-1 standards by telecommunications service providers.

The Committee will make recommendations concerning technical standards to ensure spectral compatibility in wireline networks and facilitate the deployment of xDSL and associated technologies.

The Committee will make recommendations concerning the development of spectrum management processes within the wireline network that facilitate competition among CLECs and ILECs using different technologies while still maintaining network integrity. The Committee will make recommendations with respect to such additional topics as the Commission may specify. These topics may include requests for recommendations and technical advice on interoperability issues that may arise from convergence and digital packet networks, and how the Commission may best fulfill its responsibilities, particularly with respect to national defense and safety of life and property (including law enforcement) under the Communications Act.

The Committee will assemble data and other information, perform analyses, and provide recommendations and advice to the Federal Communications Commission and the telecommunications industry concerning the foregoing.

Building on the accomplishments of this advisory Committee, and in view of the purposes of the Committee under the amended charter, the Commission has selected members of the Committee on the basis of their technical knowledge, the impact of their activities on network reliability, and the impact of network availability on the constituencies the members represent. Any new members will be chosen so that the largest possible diversity of interests, given the functions to be performed and the need for practical considerations of administrative efficiency, will be represented.

The continuation of the Committee is necessary and in the public interest to prepare recommendations for the FCC and the communications industry, and to help coordinate industry and government efforts to ensure continued reliability as the number, and types, of networks connected with public telecommunications networks continue to increase. Continuation is also necessary to prepare recommendations to the industry and to the FCC to forestall, and minimize the impact of, future network outages. In addition, continuation of the Committee is necessary so that the Commission, and the telecommunications industry, can effectively monitor outages and help assure availability of crucial communications services.

The Committee was established by the Federal Communications Commission to bring together leaders of the telecommunications industry and telecommunications experts from consumer and other organizations to develop and recommend measures that will assure optimal reliability, interoperability, accessibility and interconnectivity to public telecommunications networks.

DATES: Renewal effective January 6, 2000.

FOR FURTHER INFORMATION CONTACT: Kent Nilsson at 202-418-0845 or TTY 202-418-2989.

Federal Communications Commission.
Magalie Roman Salas,
Secretary.

[FR Doc. 00-5408 Filed 3-6-00; 8:45 am]

BILLING CODE 6712-01-U